DEPARTMENT OF LABOR

Employment and Training Administration

[TA-W-56,959]

Tyler Pipe Company, South Plant; Tyler, TX; Notice of Termination of Investigation

Pursuant to Section 221 of the Trade Act of 1974, as amended, an investigation was initiated on April 14, 2005 in response to a petition filed by the United Steelworkers of America, on behalf of workers at Tyler Pipe Company, South Plant, Tyler, Texas.

The petitioning group of workers is covered by an active certification, (TA-W-52,418) which does not expire until September 9, 2005. Consequently, further investigation in this case would serve no purpose, and the investigation has been terminated.

Signed at Washington, DC, this 2nd day of May 2005.
Linda G. Poole,
Certifying Officer, Division of Trade Adjustment Assistance.

[FR Doc. E5-2422 Filed 5-13-05; 8:45 am]

BILLING CODE 4510-30-P